DEPARTMENT OF JUSTICE

Notice of Lodging of Consent Decree Under the Comprehensive Environmental Response, Compensation and Liability Act, 42 U.S.C. 9601 Through 9675

Notice is hereby given that on April 21, 2006, a proposed consent decree (“decree”) in CoZinCo, Inc. v. The United States Environmental Protection Agency, et al., Civil Action No. 98-K-1724 (Consolidated with 98-K-2110), was lodged with the United States District Court for the District of Colorado.

In this action the United States sought past and future response costs pursuant to sections 107(a) and 113(g)(2) of CERCLA, 42 U.S.C. 9607(a) and 9613(g)(2), for groundwater contamination allegedly relating to CoZinCo's facility located on Operable Unit 3 of the Smeltertown Superfund Site (“Site”) in Salida, Colorado. CoZinCo has pursued reimbursement claims under section 106(b) of CERCLA, 42 U.S.C. 9606(b), claims for attorneys fees, and a counterclaim under the Federal Tort Claims Act against the United States. The proposed consent decree would resolve all claims asserted, or which could be asserted, by CoZinCo against the United States at this Site in exchange for CoZinCo's payment of $100,000 to the Environmental Protection Agency.

The Department of Justice will receive for a period of thirty (30) days from the date of this publication comments relating to the decree. Comments should be addressed to the Assistant Attorney General, Environment and Natural Resources Division, P.O. Box 7611, U.S. Department of Justice, Washington, DC 20044-7611, and should refer to CoZinCo, Inc. v. The United States Environmental Protection Agency, et al., Civil Action No. 98-K-1724 (Consolidated with 98-K-2110), D.J. Ref. No. DJ #90-11-3-1522/A, 1522/2, & 90-11-6-05232.

The decree may be examined at U.S. EPA Region 8, 999 18th Street, Suite 300, Denver, Colorado 80202. During the public comment period, the decree may also be examined on the following Department of Justice Web site, http://www.usdoj.gov/enrd/open.html. a copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the consent Decree Library, please enclose a check in the amount of $5.00 payable to the U.S. Treasury.

Robert D. Brook,
Assistant Chief, Environmental Enforcement Section, Environment and Natural Resources Division.

[FR Doc. 06-4168 Filed 5-2-06; 8:45 am]

BILLING CODE 4410-15-M